DEPARTMENT OF AGRICULTURE

Commodity Credit Corporation

Special Cotton Import Quota Announcements Numbers 1 and 2

AGENCY: Commodity Credit Corporation, USDA.

ACTION: Notice.

SUMMARY: Two special import quotas for upland cotton are established in accordance with section 136(b) of the Federal Agriculture Improvement and Reform Act of 1996 (the 1996 Act) under Presidential Proclamation 6301 of June 7, 1991, and Presidential Proclamation 6948 of October 29, 1996. The quotas are referenced as the Commodity Credit Corporation Special Cotton Import Quota Announcement Numbers 1 and 2 and are set forth in subheadings 9903.52.01 and 9903.52.02, subchapter III, chapter 99 of the Harmonized Tariff Schedule of the United States (HTS).

DATES: Each of the special quotas is subject to an established date and applies to upland cotton purchased not later than 90 days from the established date and entered into the United States not later than 180 days from the established date. Dates applicable to each individual special import quota are contained in a table following this notice.

FOR FURTHER INFORMATION CONTACT: Scott O. Sanford, Farm Service Agency, United States Department of Agriculture, STOP 0515, 1400 Independence Avenue, SW., Washington, DC 20013-0515 or call (202) 720-3392.

SUPPLEMENTARY INFORMATION: The 1996 Act, as amended, requires that a special global import quota for upland cotton be determined and announced immediately if, for any consecutive 10-week period, the Friday through Thursday average price quotation for the lowest-priced U.S. growth, as quoted for Middling 1 3/32 inch cotton, C.I.F. northern Europe (U.S. Northern Europe price), adjusted for the value of any cotton user marketing certificates issued, exceeds the Northern Europe price by more than 1.25 cents per pound. This condition was met for 2 consecutive 4-week periods ending August 9, 2001. Therefore, quotas referenced as Special Cotton Import Quota Announcement Numbers 1 and 2 are established subject to the following dates and quantities.

Each special import quota identifies a quantity of imports that is not subject to the over-quota tariff rate of a tariff-rate quota. The quota is not divided by staple length or by country of origin. The quota does not affect existing tariff rates or phytosanitary regulations. The quota does not apply to extra long staple cotton.

Authority: Sec. 136, Public Law 104-127 and U.S. Note 6(a), Subchapter III, Chapter 99 of the HTS.

Signed at Washington, DC on August 30, 2001.
James R. Little,
Acting Executive Vice President, Commodity Credit Corporation.

Secretary of Agriculture's cotton import quota announcement | HTS subheading | News release date | Quota start date | 90-day purchase date | 180-day import date | Quota amount (Kilograms) | 3-month consumption base period
Number 1 | 9903.52.01 | 8/02/01 | 8/09/01 | 11/06/01 | 2/04/02 | 33,238,369 | April-June 2001.
Number 2 | 9903.52.01 | 8/09/01 | 8/16/01 | 11/13/01 | 2/11/02 | 33,238,369 | April-June 2001.

[FR Doc. 01-22402 Filed 9-5-01; 8:45 am]

BILLING CODE 3410-05-P